DEPARTMENT OF AGRICULTURE

Agricultural Marketing Service

7 CFR Parts 1218 and 1219

[Document Numbers AMS-FV-10-0006; AMS-FV-10-0007]

Blueberry and Hass Avocado Promotion, Research, and Information Orders; Section 610 Reviews

AGENCY: Agricultural Marketing Service, USDA.

ACTION: Notice of reviews and request for comments.

SUMMARY: This document announces the Agricultural Marketing Service's (AMS) plans to review the Blueberry and Hass Avocado Promotion, Research, and Information Orders (Orders). Both reviews will be conducted under criteria contained in Section 610 of the Regulatory Flexibility Act (RFA).

DATES: Written comments must be received by April 26, 2010.

ADDRESSES: Interested persons are invited to submit written comments on the Internet at: http://www.regulations.gov or to the Research and Promotion Branch, Fruit and Vegetable Programs, AMS, USDA, Room 0632-S, Stop 0244, 1400 Independence Avenue, SW., Washington, DC 20250-0244; facsimile: (202) 205-2800. All comments should reference the docket number and the date and page number of this issue of the Federal Register and will be made available for public inspection in the above office during regular business hours or it can be viewed at http://www.regulations.gov.

FOR FURTHER INFORMATION CONTACT: Jeanette Palmer, Marketing Specialist, Research and Promotion Branch, Fruit and Vegetable Programs, AMS, USDA, Stop 0244, 1400 Independence Avenue, SW., Room 0632-S, Washington, DC 20250-0244; telephone: (888) 720-9917; facsimile: (202) 205-2800; or electronic mail: Jeanette.Palmer@ams.usda.gov regarding blueberries; or Maureen T. Pello, Marketing Specialist, Research and Promotion Branch, telephone: (503) 632-8848; facsimile (503) 632-8852; or electronic mail: Maureen.Pello@ams.usda.gov regarding avocados.

SUPPLEMENTARY INFORMATION: The Blueberry Promotion, Research and Information Order (Blueberry Order) (7 CFR part 1218) is authorized under the Commodity Promotion, Research, and Information Act of 1996 (1996 Act) (7 U.S.C. 7411-7425). The Hass Avocado Promotion, Research and Information Order (Avocado Order) (7 CFR part 1219) is authorized under the Hass Avocado Promotion, Research and Information Act of 2000 (Avocado Act) (7 U.S.C. 7801-7813).

The Blueberry Order became effective on August 16, 2000. The Order is administered by the U.S. Highbush Blueberry Council (Council) with oversight by the Department of Agriculture (USDA). The program is funded by assessments on highbush (cultivated) blueberries grown in and imported into the United States. Producers and importers pay the assessment. The producer assessment is remitted by first handlers, and the importer assessment is remitted by the U.S. Customs and Border Protection (Customs). Producers and importers who produce or import less than 2,000 pounds of highbush blueberries annually are exempt from the program. The purpose of the Order is to finance a coordinated program of promotion, research, and information to maintain and expand the market for fresh and processed cultivated blueberries in the United States and abroad.

The Council is composed of 14 members as follows: 10 producers (one from each of four regions and one from each of the top six producing States); 1 importer; 1 exporter from a foreign production area; 1 handler; and 1 public member. Each member has an alternate. The members and alternates are appointed to the Council by the Secretary of Agriculture and serve a term of 3 years.

The Avocado Order became effective on September 9, 2002. The Order is administered by the Hass Avocado Board (Board) with oversight by USDA. The program is funded by assessments on fresh domestic and imported Hass avocados. Producers and importers pay the assessment. The producer assessment is remitted by first handlers, and the importer assessment is remitted by Customs. Exports of domestic Hass avocados are exempt from assessments. The purpose of the program is to increase consumption of Hass avocados in the United States.

Under the Order, a state association of avocado producers receives 85 percent of the assessments paid by domestic producers, and certified importer associations receive 85 percent of the assessments paid by their members. The State and importer associations use these funds to conduct State-of-origin and country-of-origin promotions, respectively.

The Board is composed of 12 members, 7 who are producers and 5 who are importers. Each member has an alternate. The members and alternates are appointed to the Board by the Secretary of Agriculture and serve a term of 3 years.

AMS published in the Federal Register on March 24, 2006 (71 FR 14827), its plan to review certain regulations, including the Blueberry and Avocado Orders under criteria contained in section 610 of the RFA (5 U.S.C. 601-612). Because many AMS regulations impact small entities, AMS decided, as a matter of policy, to review certain regulations which, although they may not meet the threshold requirement under section 610 of the RFA, warrant review. According to the schedule published in 2006, this notice and request for comments is made for the Blueberry and Avocado Orders.

The purpose of the review is to determine whether the Orders should be continued without change, amended, or rescinded (consistent with the objectives of the 1996 Act and Avocado Act, respectively) to minimize the impacts on small entities. AMS will consider the following factors: (1) The continued need for the Orders; (2) the nature of complaints or comments received from the public concerning the Orders; (3) the complexity of the Orders; (4) the extent to which the Orders overlap, duplicate, or conflict with other Federal rules, and, to the extent feasible, with State and local regulations; and (5) the length of time since the Orders have been evaluated or the degree to which technology, economic conditions, or other factors have changed in the area affected by the Orders.

Written comments, views, opinions, and other information regarding the Order's impact on small businesses are invited.

Dated: February 17, 2010.
David R. Shipman,
Acting Administrator, Agricultural Marketing Service.

[FR Doc. 2010-3446 Filed 2-22-10; 8:45 am]

BILLING CODE 3410-02-P